DEPARTMENT OF COMMERCE

International Trade Administration

[A-560-828]

Certain Uncoated Paper From Indonesia: Preliminary Results of Antidumping Duty Administrative Review; 2015-2017

AGENCY: Enforcement and Compliance, International Trade Administration, Department of Commerce.

SUMMARY: The Department of Commerce (Commerce) preliminarily determines that the sole exporter subject to this administrative review has not made sales of subject merchandise at less than normal value. We invite interested parties to comment on these preliminary results.

DATES: Applicable April 9, 2018.

FOR FURTHER INFORMATION CONTACT: Blaine Wiltse or David Crespo, AD/CVD Operations, Office II, Enforcement and Compliance, International Trade Administration, U.S. Department of Commerce, 1401 Constitution Avenue NW, Washington, DC 20230; telephone: (202) 482-6345 or (202) 482-3693, respectively.

SUPPLEMENTARY INFORMATION:

Background

Commerce is conducting an administrative review of the antidumping duty order on certain uncoated paper (uncoated paper) from Indonesia. The notice of initiation of this administrative review was published on May 9, 2017.¹ We rescinded the review of PT. Indah Kiat Pulp and Paper Tbk, PT. Pabrik Kertas Tjiwi Kimia Tbk, and Pindo Deli Pulp and Paper Mills on August 11, 2017.² As a result, this review only covers APRIL,³ a producer and exporter of the subject merchandise. The POR is August 26, 2015, through February 28, 2017.

¹ See Initiation of Antidumping and Countervailing Duty Administrative Reviews, 82 FR 21513 (May 9, 2017) (Initiation Notice), as corrected by Initiation of Antidumping and Countervailing Duty Administrative Reviews, 82 FR 26444, 26451 (June 7, 2017).

² See Certain Uncoated Paper from Indonesia: Rescission, in Part, of Antidumping Duty Administrative Review; 2015-2017, 82 FR 37565 (August 11, 2017), as corrected by Certain Uncoated Paper from Indonesia: Notice of Correction to Rescission, in Part, of Antidumping Duty Administrative Review; 2015-2017, 82 FR 44381 (September 22, 2017).

³ Commerce selected PT Anugerah Kertas Utama, PT Riau Andalan Kertas, and APRIL Fine Paper Macao Offshore Limited (collectively, APRIL) as a mandatory respondent in this investigation. Further, for these preliminary results, Commerce preliminarily has determined to collapse, and treat as a single entity, this company and two affiliated parties, PT Sateri Viscose International and A P Fine Paper Trading (Hong Kong) Limited. See Memorandum, “Decision Memorandum for the Preliminary Results of the 2015-2017 Administrative Review of the Antidumping Duty Order on Certain Uncoated Paper from Indonesia,” dated concurrently with, and hereby adopted by, this notice (Preliminary Decision Memorandum), at 4-6. The collapsed entity is hereinafter collectively referred to as APRIL.

Commerce exercised its discretion to toll all deadlines affected by the closure of the Federal Government from January 20 through January 22, 2018. As a result, the revised deadline for the preliminary results of this review is now April 3, 2018.⁴

⁴ See Memorandum, “Deadlines Affected by the Shutdown of the Federal Government,” dated January 23, 2018. All deadlines in this segment of the proceeding have been extended by three days.

We preliminarily determine that APRIL has not made sales of subject merchandise at less than normal value. If these preliminary results are adopted in the final results of this review, we will instruct U.S. Customs and Border Protection (CBP) not to assess antidumping duties on any of APRIL's entries in accordance with the Final Modification for Reviews.⁵

⁵ See Antidumping Proceedings: Calculation of the Weighted-Average Dumping Margin and Assessment Rate in Certain Antidumping Proceedings: Final Modification, 77 FR 8101, 8102 (February 14, 2012) (Final Modification for Reviews).

Scope of the Order

The merchandise subject to the order is certain uncoated paper.⁶ The product is currently classified under the following Harmonized Tariff Schedule of the United States (HTSUS) item numbers: 4802.56.1000, 4802.56.2000, 4802.56.3000, 4802.56.4000, 4802.56.6000, 4802.56.7020, 4802.56.7040, 4802.57.1000, 4802.57.2000, 4802.57.3000, and 4802.57.4000. Some imports of subject merchandise may also be classified under 4802.62.1000, 4802.62.2000, 4802.62.3000, 4802.62.5000, 4802.62.6020, 4802.62.6040, 4802.69.1000, 4802.69.2000, 4802.69.3000, 4811.90.8050 and 4811.90.9080. Although the HTSUS numbers are provided for convenience and for customs purposes, the written product description remains dispositive.

⁶ For a complete description of the Scope of the Order, see Preliminary Decision Memorandum.

Methodology

Commerce is conducting this review in accordance with section 751(a)(1)(B) and (2) of the Tariff Act of 1930, as amended (the Act). Export price is calculated in accordance with section 772 of the Act. Normal value is calculated in accordance with section 773 of the Act.

For a full description of the methodology underlying our conclusions, see the Preliminary Decision Memorandum. The Preliminary Decision Memorandum is a public document and is on file electronically via Enforcement and Compliance's Antidumping and Countervailing Duty Centralized Electronic Service System (ACCESS). ACCESS is available to registered users at https://access.trade.gov, and to all parties in the Central Records Unit, room B8024 of the main Commerce building. In addition, a complete version of the Preliminary Decision Memorandum can be accessed directly at http://enforcement.trade.gov/frn/. The signed and electronic versions of the Preliminary Decision Memorandum are identical in content. A list of the topics discussed in the Preliminary Decision Memorandum is attached as an Appendix to this notice.

Preliminary Results of the Review

As a result of this review, we preliminarily determine that the weighted-average dumping margin exists for APRIL for the period August 26, 2015, through February 28, 2017, as follows:

Exporter/producer | Weighted- average dumping margin (percent)
PT Anugerah Kertas Utama, PT Riau Andalan Kertas, PT Sateri Viscose International, A P Fine Paper Trading (Hong Kong) Limited, and APRIL Fine Paper Macao Offshore Limited (collectively, APRIL) | 0.00

Disclosure and Public Comment

Commerce intends to disclose the calculations performed in connection with these preliminary results to interested parties within five days after the date of publication of this notice.⁷ Interested parties may submit case briefs to Commerce no later than 30 days after the date of publication of this notice.⁸ Rebuttal briefs, limited to issues raised in the case briefs, may be filed no later than five days after the time limit for filing case briefs.⁹ Parties who submit case briefs or rebuttal briefs in this proceeding are encouraged to submit with each argument: (1) A statement of the issue; (2) a brief summary of the argument; and (3) a table of authorities.¹⁰ Case and rebuttal briefs should be filed using ACCESS.¹¹

⁷ See 19 CFR 351.224(b).

⁸ See 19 CFR 351.309(c).

⁹ See 19 CFR 351.309(d).

¹⁰ See 19 CFR 351.309(c)(2) and (d)(2).

¹¹ See 19 CFR 351.303.

Pursuant to 19 CFR 351.310(c), interested parties who wish to request a hearing must submit a written request to the Assistant Secretary for Enforcement and Compliance, filed electronically via ACCESS. An electronically-filed document must be received successfully in its entirety by ACCESS by 5 p.m. Eastern Time within 30 days after the date of publication of this notice.¹² Hearing requests should contain: (1) The party's name, address, and telephone number; (2) the number of participants; and (3) a list of issues to be discussed. Issues raised in the hearing will be limited to issues raised in the briefs. If a request for a hearing is made, parties will be notified of the time and date for the hearing to be held at the U.S. Department of Commerce, 1401 Constitution Avenue NW, Washington, DC 20230.¹³

¹² See 19 CFR 351.310(c).

¹³ Id.

Commerce intends to issue the final results of this administrative review, including the results of its analysis raised in any written briefs, not later than 120 days after the publication date of this notice, pursuant to section 751(a)(3)(A) of the Act.

Assessment Rates

If APRIL's weighted-average dumping margin remains zero or de minimis in the final results of this review, then we intend to instruct CBP to liquidate APRIL's entries without regard to antidumping duties. If APRIL's weighted-average dumping margin is above de minimis in the final results of this review, then pursuant to 19 CFR 351.212(b)(1), because APRIL reported the entered value for all of its U.S. sales, we intend to calculate an importer-specific ad valorem duty assessment rate based on the ratio of the total amount of antidumping duties calculated for the examined sales to the total entered value of those sales. Where either the respondent's weighted-average dumping margin is zero or de minimis within the meaning of 19 CFR 351.106(c), or an importer-specific rate is zero or de minimis, we intend to instruct CBP to liquidate the appropriate entries without regard to antidumping duties. We intend to instruct CBP to take into account the “provisional measures cap” in accordance with 19 CFR 351.212(d). In addition, for entries of subject merchandise during the POR produced by APRIL for which it did not know its merchandise was destined for the United States, we intend to instruct CBP to liquidate unreviewed entries at the all-others rate if there is no rate for the intermediate company or companies involved in the transaction. The all-others rate is 2.10 percent.¹⁴

¹⁴ See Certain Uncoated Paper from Australia, Brazil, Indonesia, the People's Republic of China, and Portugal: Amended Final Affirmative Antidumping Determinations for Brazil and Indonesia and Antidumping Duty Orders, 81 FR 11174 (March 3, 2016) (Order).

The final results of this review shall be the basis for the assessment of antidumping duties on entries of merchandise covered by the final results of this review and for future deposits of estimated duties, where applicable.¹⁵ We intend to issue liquidation instructions to CBP 15 days after publication of the final results of this review.

¹⁵ See section 751(a)(2)(C) of the Act.

Cash Deposit Requirements

The following deposit requirements will be effective for all shipments of the subject merchandise entered, or withdrawn from warehouse, for consumption on or after the publication date of the final results of this administrative review, as provided by section 751(a)(2)(C) of the Act: (1) The cash deposit rate for APRIL will be that established in the final results of this review, except if the rate is less than 0.50 percent and, therefore, de minimis within the meaning of 19 CFR 351.106(c)(1), in which case the cash deposit rate will be zero; (2) for previously investigated companies not participating in this review, the cash deposit will continue to be the company-specific rate published for the most recently completed segment; (3) if the exporter is not a firm covered in this review, or the original less-than-fair-value (LTFV) investigation, but the manufacturer is, the cash deposit rate will be the rate established for the most recent segment for the manufacturer of the merchandise; and 4) the cash deposit rate for all other manufacturers or exporters will continue to be 2.10 percent, the all-others rate made effective by the LTFV investigation.¹⁶ These deposit requirements, when imposed, shall remain in effect until further notice.

¹⁶ See Order, 81 FR at 11174.

Notification to Importers

This notice also serves as a preliminary reminder to importers of their responsibility under 19 CFR 351.402(f) to file a certificate regarding the reimbursement of antidumping duties prior to liquidation of the relevant entries during this review period. Failure to comply with this requirement could result in the Secretary's presumption that reimbursement of antidumping duties occurred and the subsequent assessment of double antidumping duties.

We are issuing and publishing these results in accordance with sections 751(a)(1) and 777(i)(1) of the Act and 19 CFR 351.213(h)(1).

Dated: April 3, 2018.
Gary Taverman,
Deputy Assistant Secretary for Antidumping and Countervailing Duty Operations, performing the non-exclusive functions and duties of the Assistant Secretary for Enforcement and Compliance.

Appendix

List of Topics Discussed in the Preliminary Decision Memorandum

1. Summary

2. Background

3. Scope of the Order

4. Affiliation and Collapsing

a. Legal Framework

b. Affiliation and Single Entity Analysis

5. Discussion of the Methodology

a. Normal Value Comparisons

b. Determination of Comparison Method

c. Results of Differential Pricing Analysis

d. Product Comparisons

e. Date of Sale

f. Export Price

g. Duty Drawback

h. Normal Value

i. Home Market Viability and Comparison Market

ii. Level of Trade

iii. Cost of Production Analysis

1. Calculation of Cost of Production

2. Test of Comparison Market Sales Prices

3. Results of the COP Test

iv. Calculation of Normal Value Based on Comparison Market Prices

v. Calculation of Normal Value Based on Constructed Value

6. Currency Conversion

7. Recommendation

[FR Doc. 2018-07193 Filed 4-6-18; 8:45 am]

BILLING CODE 3510-DS-P